DEPARTMENT OF TRANSPORTATION

Federal Highway Administration

Active Transportation Infrastructure Investment Program

AGENCY: Federal Highway Administration (FHWA), U.S. Department of Transportation (DOT).

ACTION: Notice.

SUMMARY: The FHWA is announcing that a Notice of Funding Opportunity (NOFO) for the Active Transportation Infrastructure Investment Program (ATIIP) is now available.

DATES: Applications must be received by Monday, June 17, 2024.

ADDRESSES: All application materials should be submitted electronically through grants.gov. Refer to Catalog of Federal Domestic Assistance Number: 20.205.

FOR FURTHER INFORMATION CONTACT: Hector Santamaria, Agreement Officer, ATIIP@dot.gov, (202) 493-2402.

SUPPLEMENTARY INFORMATION:

Electronic Access

An electronic copy of this document may be downloaded from the Office of the Federal Register's home page at: www.federalregister.gov/, the U.S. Government Publishing Office's web page at: www.gpo.gov/fdsys/, and at www.grants.gov (Opportunity Number: 693JJ324NF00012).

Background

Section 11529 of the Bipartisan Infrastructure Law (BIL), enacted as the Infrastructure Investment and Jobs Act (Pub. L. 117-58, Nov. 15, 2021), established ATIIP. The purpose of ATIIP is to provide discretionary grants to eligible entities to plan, design, and construct eligible projects that provide safe and connected active transportation infrastructure in an active transportation network or active transportation spine (BIL sec. 11529(a)).

The ATIIP projects will help improve the safety, efficiency, and reliability of active transportation networks and communities; improve connectivity between active transportation modes and public transportation; enhance the resiliency of on- and off-road active transportation infrastructure and help protect the environment; and improve quality of life in disadvantaged communities through the delivery of connected active transportation networks and expanded mobility opportunities.

The ATIIP grants will allow communities to identify, prioritize, and implement improvements to the largest barriers to safe, accessible, and equitable pedestrian and bicycle network connectivity through the development of infrastructure that will provide substantial additional opportunities for walking and bicycling.

The FHWA is publishing this notice pursuant to section 11529 of BIL to notify stakeholders of the availability of the NOFO located on grants.gov.

Shailen P. Bhatt,
Administrator, Federal Highway Administration.

[FR Doc. 2024-08758 Filed 4-23-24; 8:45 am]

BILLING CODE 4910-22-P